INTERNATIONAL TRADE COMMISSION

[Investigation No. 332-415]

U.S. Trade and Investment With Sub-Saharan Africa

AGENCY: International Trade Commission.

ACTION: Notice of preparation of fourth report and opportunity to submit information and comments.

EFFECTIVE DATE: June 10, 2003.

SUMMARY: Following receipt on March 12, 2000, of a letter from the United States Trade Representative (USTR), the Commission instituted investigation No. 332-415, U.S. Trade and Investment with Sub-Saharan Africa, under section 332(g) of the Tariff Act of 1930 (19 U.S.C. 1332(g)) for the purpose of preparing a series of five annual reports. This is the fourth report in the series, and the Commission plans to transmit this fourth report to the USTR by December 10, 2003.

FOR FURTHER INFORMATION CONTACT: Laurie-Ann Agama, Office of Economics (202-205-3220), or William Gearhart, Office of the General Counsel (202-205-3091) for information on legal aspects of the investigation. The media should contact Margaret O'Laughlin, Office of External Relations (202-l819). Hearing impaired individuals are advised that information on this matter can be obtained by contacting the TDD terminal on 202-205-1810. Persons with mobility impairments who will need special assistance in gaining access to the Commission should contact the Office of the Secretary, 202-205-2000. General information about the Commission may be obtained by accessing its Internet server (http://www.usitc.gov). The public record for this investigation may be viewed on the Commission's electronic docket (EDIS) http://edis.usitc.gov.

Background

The USTR requested that the Commission prepare a series of annual reports for five years containing the following information:

1. For the last five years (and the latest quarter available), data on U.S. merchandise trade and services trade with sub-Saharan Africa (SSA), including statistics by country, by major sectors, and by the top 25 commodities.

2. A summary of U.S. and total foreign direct investment and portfolio investment in sub-Saharan Africa.

3. Statistical information on U.S. imports from sub-Saharan Africa under the AGOA and GSP programs by country and by major product categories/commodities; and information on AGOA-related investment.

4. Updates on regional integration in sub-Saharan Africa including statistics on U.S. trade with major regional groupings (ECOWAS, WAEMU, COMESA, SADC, SACU, EAC, IGAD, IOC and CEMAC) and, where applicable, information on each group's tariff structure.

5. A description of major U.S. trade capacity-building initiatives related to SSA, a summary of multilateral and U.S. bilateral assistance to the countries of sub-Saharan Africa, and a description of major non-U.S. trade preference programs for countries in SSA.

6. Sector profiles for sub-Saharan Africa, including information on trade, investment, industry and policy developments, by major sector. The six sector profiles in this investigation include: agricultural, fisheries and forest products; chemicals; petroleum and energy-related products; minerals and metals; textiles and apparel; and transportation equipment.

7. Country-by-country profiles on each of the 48 countries in sub-Saharan Africa, including information on major trading partners, by country. Summary of the trade, services, and investment climates in each of the countries of sub-Saharan Africa, including a description of the basic tariff structure (e.g., the average tariff rate and the average agricultural tariff rate), as well as significant impediments to trade, such as import bans.

The 48 countries of sub-Saharan Africa covered in this investigation include: Angola, Benin, Botswana, Burkina Faso, Burundi, Cameroon, Cape Verde, Central African Republic, Chad, Comoros, Democratic Republic of the Congo, Côte d'Ivoire, Djibouti, Equatorial Guinea, Eritrea, Ethiopia, Gabon, The Gambia, Ghana, Guinea, Guinea-Bissau, Kenya, Lesotho, Liberia, Madagascar, Malawi, Mali, Mauritania, Mauritius, Mozambique, Namibia, Niger, Nigeria, Republic of the Congo, Rwanda, São Tomé and Principe, Senegal, Seychelles, Sierra Leone, Somalia, South Africa, Sudan, Swaziland, Tanzania, Togo, Uganda, Zambia, and Zimbabwe.

The USTR requested that the Commission provide its first report by December 10, 2000, and annually for a period of 4 years thereafter. The second report in the series was delivered to USTR on December 10, 2001 and the third report was delivered on December 10, 2002. The Commission expects to deliver the fourth report by December 10, 2003.

Written Submissions

The Commission does not plan to hold a public hearing in connection with this fourth report. However, interested persons are invited to submit written statements concerning matters to be addressed in the report. Commercial or financial information that a person desires the Commission to treat as confidential must be submitted in accordance with § 201.6 of the Commission's rules of practice and procedure (19 CFR 201.6). The Commission may include such confidential business information in the report it sends to USTR. The Commission's rules do not authorize filing of submissions with the Secretary by facsimile or electronic means, except to the extent permitted by § 201.8 of the Commission's rules, as amended, 67 FR 68036 (Nov. 8, 2002). All written submissions must conform with the provisions of § 201.8 of the Commission's rules of practice and procedure (19 CFR 201.8). All written statements, except for confidential business information will be made available for inspection by interested persons in the Office of the Secretary to the Commission. To be assured of consideration, written statements relating to the Commission's report should be submitted at the earliest possible date and should be received not later than July 28, 2003. All submissions should be addressed to the Secretary, United States International Trade Commission, 500 E Street, SW., Washington DC 20436.

Persons with mobility impairments who will need special assistance in gaining access to the Commission should contact the Office of the Secretary at 202-205-2000.

Issued: June 11, 2003.
By order of the Commission.
Marilyn R. Abbott,
Secretary.

[FR Doc. 03-15158 Filed 6-13-03; 8:45 am]

BILLING CODE 7020-02-P